DEPARTMENT OF COMMERCE

Foreign-Trade Zones Board

[Docket 14-2001]

Foreign-Trade Zone 126—Sparks, NV, Application for Subzone, Taiyo America, Inc., Carson City, NV; Reopening of Public Comment Period

The comment period for the above case, submitted by the Economic Development Authority of Western Nevada, grantee of FTZ 126, requesting subzone status at the Taiyo America, Inc. facility in Carson City, Nevada (66 FR 14126, 3/9/01), is reopened to allow interested parties time in which to comment on additional information that has been submitted.

The comment period is reopened until July 1, 2002. Rebuttal comments may be submitted during the subsequent 15 day period, until July 15, 2002. Submissions (original and 3 copies) shall be addressed to the Board's Executive Secretary at one of the following addresses:

1. Submissions Via Express/Package Delivery Services: Foreign-Trade-Zones Board, U.S. Department of Commerce, Franklin Court Building—Suite 4100W, 1099 14th St. NW, Washington, DC 20005; or

2. Submissions Via the U.S. Postal Service: Foreign-Trade-Zones Board, U.S. Department of Commerce, FCB—Suite 4100W, 1401 Constitution Ave. NW, Washington, DC 20230.

Dated: May 24, 2002.
Dennis Puccinelli,
Executive Secretary.

[FR Doc. 02-13732 Filed 5-30-02; 8:45 am]

BILLING CODE 3810-DS-P